DEPARTMENT OF COMMERCE

National Oceanic and Atmospheric Administration

50 CFR Part 679

[Docket No. 991228352-0012-02; I.D. 062100A]

Fisheries of the Exclusive Economic Zone Off Alaska; Rockfish and Pacific Ocean Perch in the Central and Eastern Regulatory Areas of the Gulf of Alaska

AGENCY: National Marine Fisheries Service (NMFS), National Oceanic and Atmospheric Administration (NOAA), Commerce.

ACTION: Modification of a closure.

SUMMARY: NMFS is opening directed fishing for Pacific ocean perch and northern rockfish in the Central Regulatory Area, and Pacific ocean perch in the Eastern Regulatory Area of the Gulf of Alaska (GOA) by catcher vessels that are non-exempt under the American Fisheries Act (AFA). This action is necessary to allow non-exempt catcher vessels to participate in these fisheries consistent with regulations implementing the AFA.

DATES: Effective 1200 hrs, Alaska local time (A.l.t.), July 4, 2000, until 2400 hours, A.l.t., December 31, 2000, or until NMFS publishes further notice in the Federal Register.

FOR FURTHER INFORMATION CONTACT: Andrew Smoker, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The amount of the interim 2000 GOA AFA catcher vessel sideboards in the Central Regulatory Area for Pacific ocean perch and northern rockfish are 639 metric tons (mt) and 138 mt respectively and for Pacific ocean perch in the Eastern Regulatory Area, 57 mt. These amounts were established by the Emergency Interim Rule to Implement Major Provisions of the American Fisheries Act (65 FR 4520, January 28, 2000). This emergency interim rule was extended through January 16, 2001 (65 FR 39107, June 23, 2000), in accordance with § 679.20(c)(2)(i).

The Administrator, Alaska Region, NMFS (Regional Administrator), has established a directed fishing allowance and bycatch amounts to support other anticipated groundfish fisheries for this component as follows: For the Central Regulatory Area Pacific ocean perch fishery, the directed fishing amount is 619 mt, and the bycatch amount is 20 mt. For the Central Regulatory Area northern rockfish fishery the directed fishing amount is 118 mt, and the bycatch amount is 20 mt. For the Eastern Regulatory Area Pacific ocean perch fishery, the directed fishing amount is 52 mt and the bycatch amount is 5 mt. These fisheries were closed to directed fishing by non-exempt AFA vessels on January 21, 2000 (65 FR 4520, January 28, 2000).

NMFS has determined that as of July 4, 2000, sufficient amounts remain in these directed fishing allowances to allow for the fisheries to occur. Therefore, NMFS is terminating the previous closures and is opening directed fishing for Pacific ocean perch in the Central and Eastern Regulatory Areas, and for northern rockfish in the Central Regulatory Area by catcher vessels that are non-exempt under the AFA.

Classification

All other closures remain in full force and effect. This action responds to the best available information recently obtained from the fishery. It must be implemented immediately in order to allow participation of catcher vessels that are non-exempt under the AFA. Providing prior notice and opportunity for public comment for this action is impracticable and contrary to the public interest. NMFS finds for good cause that the implementation of this action cannot be delayed for 30 days. Accordingly, under 5 U.S.C. 553(d), a delay in the effective date is hereby waived.

This action is required by § 679.20 and is exempt from review under E.O. 12866.

Authority: 16 U.S.C. 1801 et seq.

Dated: June 26, 2000.
Bruce C. Morehead,
Acting Director, Office of Sustainable Fisheries, National Marine Fisheries Service.

[FR Doc. 00-16535 Filed 6-29-00; 8:45 am]

BILLING CODE 3510-22-F